DEPARTMENT OF JUSTICE

[OMB Number 1122-NEW]

Agency Information Collection Activities; New Collection: Certification of Compliance With the Confidentiality and Privacy Provisions of the Violence Against Women Act, as Amended

Correction

In notice document 2013-21375 beginning on page 54275 in the issue of Tuesday, September 3, 2013 make the following correction:

On page 54275, in the third column, in the first full paragraph, three lines from the bottom “September 3, 2013” should read “November 4, 2013”.

[FR Doc. C1-2013-21375 Filed 11-5-13; 8:45 am]

BILLING CODE 1505-01-D